DEPARTMENT OF THE INTERIOR

National Park Service

[[NPS-WASO-CONC-0511-7144; 2410-OYC]

Temporary Concession Contract for Big South Fork National Recreation Area, TN/KY

AGENCY: National Park Service, Interior.

ACTION: Notice of proposed award of temporary concession contract for Big South Fork National Recreation Area, TN/KY.

SUMMARY: Pursuant to 36 CFR 51.24, public notice is hereby given that the National Park Service (NPS) proposes to award a temporary concession contract for the conduct of certain visitor services within Big South Fork National Recreation Area, Tennessee and Kentucky, for a term not to exceed 3 years. The visitor services include providing backcountry lodging accommodations, food and beverage, and retail sales at Charit Creek Lodge. The NPS is awarding the contract on an emergency basis to avoid extended visitor services interruptions as a result of the prior concession contract expiring on December 31, 2010.

DATES: The term of the temporary concession contract will commence on or around May 1, 2011.

SUPPLEMENTARY INFORMATION: The NPS will award the temporary concession contract to qualified persons as defined in 36 CFR 51.3. The NPS has determined that a temporary concession contract is necessary to avoid an extended interruption of visitor services and has taken all reasonable appropriate steps to consider alternatives to avoid an extended interruption of visitor services.

This action is issued pursuant to 36 CFR 51.24(a). This is not a request for proposals.

Dated: May 13, 2011.
Peggy O'Dell,
Deputy Director, National Park Service.

[FR Doc. 2011-15062 Filed 6-17-11; 8:45 am]

BILLING CODE 4310-53-P